DEPARTMENT OF VETERANS AFFAIRS

Privacy Act of 1974; System of Records

AGENCY: Department of Veterans Affairs (VA).

ACTION: Notice of amendment to system of records “Ionizing Radiation Registry—VA”.

SUMMARY: As required by the Privacy Act of 1974, 5 U.S.C. 552a(e), notice is hereby given that the Department of Veterans Affairs (VA) is amending and renumbering the system of records known as “Ionizing Radiation Registry—VA” (69VA114) as set forth in the Federal Register 56 FR 26186 dated 6/6/1991. VA is amending the system by including Purpose and amending the System Number; Categories of Individuals Covered by the System; Categories of Records in the System; Authority for Maintenance of the System; and Policies and Practices for Storing, Retrieving, Accessing, Retaining, and Disposing of Records in the System, including Storage, Retrievability and Safeguards. Other sections remain unchanged (i.e., record source categories.) VA is republishing the system notice in its entirety at this time.

DATES: Comments on the amendment of this system of records must be received no later than July 5, 2001. If no public comment is received, the amended system will become effective July 5, 2001.

ADDRESSES: Written comments concerning the proposed amended system of records may be submitted to the Office of Regulations Management (02D), Department of Veterans Affairs, 810 Vermont Avenue, NW., Washington, DC 20420. Comments will be available for public inspection at the above address in the Office of Regulations Management, Room 1158, between the hours of 8:00 a.m. and 4:30 p.m., Monday through Friday (except holidays).

FOR FURTHER INFORMATION CONTACT: Veterans Health Administration (VHA) Privacy Act Officer (193B3), Department of Veterans Affairs, 810 Vermont Avenue, NW., Washington, DC 20420, (727) 320-1839.

SUPPLEMENTARY INFORMATION: The number of the system is changed from VA (69VA114) to VA (69VA131) to reflect organizational changes. The number of individuals covered by this system has been increased to include veterans who have received nasopharyngeal (NP) radium treatments during active military, naval or air service and received registry examinations as authorized by Public Law 105-368. This system will continue to include data collected for veterans who may have been exposed to a radiation-risk activity, as authorized by Public Law 99-576, under the following conditions:

a. On site participation in a test involving the atmospheric detonation of a nuclear weapon, between 1945 and 1962, whether or not the testing nation was the United States.

b. Participation in the occupation of Hiroshima or Nagasaki from August 6, 1945, through July 1, 1946; or

c. Internment as a Prisoner-of-War in Japan during World War II that the Secretary of Veterans Affairs determines resulted in an opportunity for exposure to ionizing radiation comparable to that of veterans involved in the occupation of Hiroshima or Nagasaki, and who

(1) Apply for hospital or nursing home care under Title 38, U.S.C., Chapter 17;

(2) File a claim for compensation under Title 38 U.S.C., Chapter 11; or

(3) Dies and is survived by a spouse, child, or parent who files a claim for dependency and indemnity compensation under Title 38 U.S.C., Chapter 13.

In addition to the categories of records maintained in the Ionizing Radiation Registry (IRR) system, physicians' names and titles are included but may not be retrievable. Outdated information related to the estimate of the radiation doses to which the veterans are exposed while on active military duty has been deleted from these records.

The System Manager(s) and addresses have been changed from the Director, Environmental Agents Service (146A) to Program Chief for Clinical Matters, Office of Public Health and Environmental Hazards (13) and Management/Program Analyst, Environmental Agents Service (131), Department of Veterans Affairs, 810 Vermont Avenue, NW., Washington, DC 20420.

These IRR records may have several identifiers—Department of Defense data are identified by military service number and only 25 percent are identified by social security numbers.

The IRR program located at the Austin Automation Center (AAC), Austin, Texas, is an automated integrated system containing demographic and medical data of registry examinations from 1981 through the current date. These data were entered manually on code sheets by VA facility staff and hard copies sent to the AAC for entry into the IRR data set. The IRR system of records located at VA Headquarters, Washington, DC, is an optical disk system containing images of paper records, i.e., code sheets, medical records, correspondence and questionnaires relating to the veterans exposed to ionizing radiation. Once these paper records are scanned on optical disks, they are disposed of in accordance with RCS-10.1.

The purpose of this IRR system of records is to provide information about veterans who have had an IRR examination at a VA facility, to assist in generating hypotheses for research studies, provide management with the capability to track patient demographics, reported birth defects among veteran's children or grandchildren and radiogenic related diseases and planning and delivery of health care services and associated costs.

The notice of intent to publish and an advance copy of the system notice have been sent to the appropriate Congressional committees and to the Director of the Office of Management and Budget (OMB) as required by 5 U.S.C. 552a(r) (Privacy Act) and guidelines issued by OMB (65 FR 77677), December 12, 2000.

Approved: May 21, 2001.
Anthony J. Principi,
Secretary of Veterans Affairs.

69VA131

System Name:

Ionizing Radiation Registry-VA.

System Location:

Character-based data from Ionizing Radiation Code Sheets are maintained in a registry data set at the Austin Automation Center, 1615 Woodward Street, Austin, Texas 78772. Since the data set at the Austin Automation Center (AAC) is not all-inclusive, i.e., narratives, signatures, etc., noted on the code sheets are not entered into this system, images of the code sheets are maintained at the Department of Veterans Affairs, Environmental Agents Service (131), 810 Vermont Avenue, NW, Washington, DC 20420. These are electronic images of paper records, i.e., code sheets, medical records, questionnaires and correspondence that are stored on optical disks.

Categories of Individuals Covered by this System:

Veterans who may have been exposed to ionizing radiation while on active military duty and have had an Ionizing Radiation Registry (IRR) examination at a Department of Veterans Affairs (VA) medical facility under conditions described in Title 38 United States Code (U.S.C.) section 1710(e)(1)(B) and section 1710(e)(1)(B) and section 1720E. These conditions include:

1. On-site participation in a test involving the atmospheric detonation of a nuclear device (between 1945 and 1962), at a nuclear device testing site—the Pacific Island, e.g., Bikini, New Mexico, Nevada, etc. (whether or not the testing nation was the United States);

2. participation in the occupation of Hiroshima or Nagasaki, Japan, from August 6, 1945, through July 1, 1946;

3. internment as a POW in Japan during World War II which the Secretary of Veterans Affairs determines resulted in an opportunity for exposure to ionizing radiation comparable to that of veterans involved in the occupation of Hiroshima or Nagasaki, Japan; and

(a) Veterans who apply for hospital or nursing home care under Title 38 United States Code, Chapter 17;

(b) Files a claim for compensation under Title 38 United States Code, Chapter 11; or

(c) Dies and is survived by a spouse, child, or parent who files a claim for dependency and indemnity compensation under Title 38 United States Code, Chapter 3;

4. Treatment with nasopharyngeal (NP) radium irradiation while in the active military, naval or air service.

Categories of Records in the System:

These records consist of: Code sheet records containing VA facility code identifier where veteran was examined or treated; veteran's name; address; social security number; military service serial number; claim number; date of birth; telephone number; sex; report of birth defects among veteran's children or grandchildren; dates of medical examinations; consultations; radiogenic related diseases; and name and signature of examiner/physician coordinator.

In addition, there may be medical records with information relating to the examination and/or treatment, including laboratory findings on vision, hearing, blood tests, electrocardiograms, chest x-rays, urinalysis, laboratory report displays, medical certificates to support diagnosis; progress notes; military unit assignments; questionnaires; and correspondence relating to veteran's exposure history; personal history, e.g., education, marital status, occupational history, family history, complaints/symptoms; personal medical history, habits, recreation, reproductive and family history, physical measurements; military discharge records; and VA claims for compensation.

Authority for Maintenance of the System:

Title 38, United States Code (U.S.C.) sec. 1710(e)(1)(B) and sec. 1710(e)(1)(B) and sec. 1720E.

Purpose(s):

The records will be used for the purpose of providing information about veterans who have had an IRR examination at a VA facility; assisting in generating hypotheses for research studies; providing management with the capability to track patient demographics, reported birth defects among veterans' children or grandchildren and radiogenic related diseases; and planning and delivery of health care services and associated costs.

Routine Uses of Records Maintained in the System, Including Categories of Users and the Purposes of Such Uses:

1. The record of an individual who is covered by this system may be disclosed to a member of Congress or staff person acting for the member when the member or staff person requests the record on behalf of, and at the written request of, that individual.

2. Disclosure of records covered by this system, as deemed necessary and proper to named individuals serving as accredited service organization representatives and other individuals named as approved agents or attorneys for a documented purposes and period of time, to aid beneficiaries in the preparation and presentation of their cases during the verification and/or due process procedures and in the presentation and prosecution of claims under laws administered by the Department of Veterans Affairs.

3. A record containing the name(s) and address(es) of present or former members of the armed services and/or their dependents may be released from this system of records under certain circumstances:

(a) To any nonprofit organization if the release is directly connected with the conduct of programs and the utilization of benefits under Title 38, and

(b) To any criminal or civil law enforcement governmental agency or instrumentality charged under applicable law with the protection of the public health or safety if a qualified representative of such organization, agency or instrumentality has made a standing written request that such name(s) or address(es) be provided for a purpose authorized by law; provided, further, that the record(s) will not be used for any purpose other than that stated in the request and that the organization, agency or instrumentality is aware of the penalty provision of 38 U.S.C. 3301(f).

4. Disclosure may be made to the National Archives and Records Administration (NARA) in records management inspections conducted under authority of Title 44 U.S.C.

5. Disclosure of information, excluding name and address (unless name and address is furnished by the requestor) for research purposes determined to be necessary and proper, to epidemiological and other research facilities approved by the Under Secretary for Health.

6. In order to conduct Federal research necessary to accomplish a statutory purpose of an agency, at the written request of the head of the agency, or designee of the head of that agency, the name(s) and address(es) of present or former personnel or the Armed Services and/or their dependents may be disclosed.

(a) To a Federal department or agency or

(b) Directly to a contractor of a Federal department or agency. When a disclosure of this information is to be made directly to the contractor, VA may impose applicable conditions on the department, agency, and/or contractor to insure the appropriateness of the disclosure to the contractor.

7. Any information in this system may be disclosed to a Federal grand jury, a Federal court or a party in litigation, or a Federal agency or party to an administrative proceeding being conducted by a Federal agency, in order for VA to respond to and comply with the issuance of a Federal subpoena.

8. Any information in this system may be disclosed to a State or municipal grand jury, a State or municipal court or a party in a litigation, or to a State or municipal administrative agency functioning in a quasi-judicial capacity or a party to a proceeding being conducted by such agency, in order for VA to respond to and comply with the issuance of a State or municipal subpoena; provided, that any disclosure or claimant information made under this routine use must comply with the provisions of 38 CFR 1.511.

9. In the event that a record maintained by VA to carry out its functions indicates a violation or potential violation of law, whether civil, criminal or regulatory in nature, and whether arising by general statute or particular program statute, or by regulation, rule or order issued pursuant thereto, information may be disclosed to the appropriate agency whether Federal, State, local or foreign, charged with the responsibility of investigating or prosecuting such violation or charged with enforcing or implementing the statute or rule, regulation or order issued pursuant thereto.

10. For program review purposes and the seeking of accreditation and/or certification, disclosure may be made to survey teams of the Joint Commission on Accreditation of Healthcare Organizations (JCAHO), College of American Pathologists, American Association of Blood Banks, and similar national accreditation agencies or boards with whom VA has a contract or agreement to conduct such reviews but only to the extent that the information is necessary and relevant to the review.

Policies and Practices for Storing, Retrieving, Accessing, Retaining and Disposing of Records in the System: Storage:

Electronic data are maintained on Direct Access Storage Devices at the AAC, Austin, Texas, and on optical disks at VA Headquarters, Washington, DC. AAC stores registry tapes for disaster back up at an off-site location. VA Headquarters also have back-up optical disks stored off-site. In addition to electronic data, registry reports are maintained on paper documents and microfiche. Records will be maintained and disposed of in accordance with records disposition authority approved by the Archivist of the United States.

RETRIEVABILITY:

Documents are retrieved by name of veteran, social security number and service serial number.

Safeguards:

Access to records at VA Headquarters is only authorized to VA personnel on a “need to know” basis. Records are maintained in manned rooms during working hours. During non-working hours, there is limited access to the building with visitor control by security personnel. Registry data maintained at the AAC can only be updated by authorized AAC personnel. Read access to the data is granted through a telecommunications network to authorized VA Headquarters personnel. AAC reports are also accessible through a telecommunications network on a read-only basis to the owner (VA facility) of the data. Access is limited to authorized employees by individually unique access codes which are changed periodically. Physical access to the AAC is generally restricted to AAC staff, VA Headquarters employees, custodial personnel, Federal Protective Service and authorized operational personnel through electronic locking devices. All other persons gaining access to the computer rooms are escorted. Backup records stored off-site for both the AAC and VA Headquarters are safeguarded in secured storage areas.

Retention and Disposal:

Records will be maintained and disposed of in accordance with records disposition authority approved by the Archivist of the United States.

System Manager(S) and Address:

Program Chief for Clinical Matters, Office of Public Health and Environmental Hazards (13) (for clinical issues) and Management/Program Analyst, Environmental Agents Service (131) (for administrative issues,) VA Headquarters, 810 Vermont Avenue, NW, Washington, DC 20420.

Notification Procedure:

An individual who wishes to determine whether a record is being maintained in this system under his or her name or other personal identifier, or wants to determine the contents of such record, should submit a written request or apply in person to the last VA facility where medical care was provided or submit a written request to the Program Chief for Clinical Matters, Office of Public Health and Environmental Hazards (13) or the Management/Program Analyst, Environmental Agents Service (131), VA Headquarters, 810 Vermont Avenue, NW, Washington, DC 20420. Inquiries should include the veteran's name, social security number, service serial number, and return address.

Record Access Procedures:

An individual who seeks access to records maintained under his or her name may write or visit the nearest VA facility or write to the Program Chief for Clinical Matters, Office of Public Health and Environmental Hazards (13) or the Management/Program Analyst, Environmental Agents Service (131), VA Headquarters, 810 Vermont Avenue, NW., Washington, DC 20420.

Contesting Records Procedures:

Refer to previous item “Record Access Procedures.”

Record Source Categories:

VA patient medical records, various automated record systems providing clinical and managerial support to VA health care facilities, the veteran, family members, and records from Veterans Benefits Administration, Department of Defense, Department of the Army, Department of the Air Force, Department of the Navy and other Federal agencies.

[FR Doc. 01-14131 Filed 6-4-01; 8:45 am]

BILLING CODE 8320-01-P